DEPARTMENT OF COMMERCE

National Oceanic and Atmospheric Administration

RIN 0648-XD660

Takes of Marine Mammals Incidental to Specified Activities; Seabird Research Activities in Central California, 2015-2016; Correction

AGENCY: National Marine Fisheries Service (NMFS), National Oceanic and Atmospheric Administration (NOAA), Commerce.

ACTION: Notice; proposed incidental harassment authorization; correction.

SUMMARY: NMFS published a notice in the Federal Register on December 23, 2014, concerning an application from Point Blue Conservation Science (Point Blue) requesting an Incidental Harassment Authorization (Authorization) to take marine mammals, by harassment, incidental to conducting proposed seabird research activities on Southeast Farallon Island, Año Nuevo Island, and Point Reyes National Seashore in central California from January 2015 through January 2016. The December 23, 2014 notice did not contain an ending date for the public comment period. This notice correctly identifies the end of the public comment period as January 23, 2015.

DATES: Comments must be received by January 23, 2015.

FOR FURTHER INFORMATION CONTACT: Jeannine Cody, Office of Protected Resources, NMFS (301) 427-8401.

SUPPLEMENTARY INFORMATION:

Correction

In the Federal Register of December 23, 2014, FR Doc. 2014-29991, on page 76975, in the second column, the DATES section was omitted and this correction has added it to inform the public of the comment end date.

Dated: January 12, 2015.
Donna S. Wieting,
Director, Office of Protected Resources, National Marine Fisheries Service.

[FR Doc. 2015-01136 Filed 1-22-15; 8:45 am]

BILLING CODE 3510-22-P